FEDERAL MARITIME COMMISSION

Notice of Agreements Filed

The Commission hereby gives notice of the filing of the following agreement under the Shipping Act of 1984. Interested parties may submit comments on the agreements to the Secretary, Federal Maritime Commission, Washington, DC 20573, within twelve days of the date this notice appears in the Federal Register. Copies of the agreements are available through the Commission's Web site (http://fmcinet/fmc.agreements.web/public) or by contacting the Office of Agreements at (202)-523-5793 or tradeanalysis@fmc.gov.

Agreement No.: 012475.

Title: Tripartite Agreement.

Parties: Kawasaki Kisen Kaisha, Ltd.; Mitsui O.S.K. Lines, Ltd.; and Nippon Yusen Kaisha.

Filing Party: Jeffrey Lawrence and Joshua Stein; Cozen O'Connor; 1200 19th Street NW., Washington, DC 20036.

Synopsis: The Agreement authorizes the Parties to establish and operate a joint service for the transportation of containerized cargo in the trade between the United States and all countries worldwide, and to engage in cooperative working arrangements in preparation for the operation of the joint service.

By Order of the Federal Maritime Commission.
Dated: March 27, 2017.
Rachel E. Dickon,
Assistant Secretary.

[FR Doc. 2017-06265 Filed 3-29-17; 8:45 am]

BILLING CODE 6731-AA-P